SOCIAL SECURITY ADMINISTRATION

Agency Information Collection Activities: Proposed Request and Comment Request

The Social Security Administration (SSA) publishes a list of information collection packages that will require clearance by the Office of Management and Budget (OMB) in compliance with Pub. L. 104-13, the Paperwork Reduction Act of 1995, effective October 1, 1995. The information collection packages that may be included in this Notice are for revisions to OMB-approved information collections and extensions (no change) of OMB-approved information collections.

SSA is soliciting comments on the accuracy of the agency's burden estimate; the need for the information; its practical utility; ways to enhance its quality, utility, and clarity; and on ways to minimize burden on respondents, including the use of automated collection techniques or other forms of information technology. Written comments and recommendations regarding the information collection(s) should be submitted to the OMB Desk Officer and the SSA Reports Clearance Officer. The information can be mailed and/or faxed to the individuals at the addresses and fax numbers listed below:

(OMB), Office of Management and Budget, Attn: Desk Officer for SSA, New Executive Building, Room 10235, 725 17th St., NW., Washington, DC 20503, Fax: 202-395-6974.

(SSA), Social Security Administration, DCFAM, Attn: Reports Clearance Officer, 1338 Annex Building, 6401 Security Blvd., Baltimore, MD 21235, Fax: 410-965-6400.

I. The information collections listed below are pending at SSA and will be submitted to OMB within 60 days from the date of this notice. Therefore, your comments should be submitted to SSA within 60 days from the date of this publication. You can obtain copies of the collection instruments by calling the SSA Reports Clearance Officer at 410-965-0454 or by writing to the address listed above.

1. Cessation or Continuance of Disability or Blindness Determination—20 CFR 404.1615, 20 CFR 404.1512, and 20 CFR 404.1588-1599—0960-0443. The information on Form SSA-832-U3/C3 is used by SSA to document determinations as to whether an individual's disability benefits should be terminated or continued on the basis of his/her impairment. The respondents are State Disability Determination Service employees adjudicating Supplemental Security Income (SSI) disability claims.

Type of Request: Extension of an OMB-approved information collection.

Number of Respondents: 392,191.

Frequency of Response: 1.

Average Burden Per Response: 30 minutes.

Estimated Annual Burden: 196,096 hours.

2. Work Activity Report (Self-Employed Person)—20 CFR 404.1520(b), 20 CFR 1571-.1576, 20 CFR 404.1584-.1593, and 20 CFR 416.971-.976—0960-0598. The information on Form SSA-820-F4 is used by SSA to determine initial or continuing eligibility for SSI or Social Security disability benefits. Under titles II and XVI of the Act, applicants for disability benefits must prove an inability to perform any kind of Substantial Gainful Activity (SGA) generally available in the national economy for which they might be expected to qualify on the basis of age, education, and work experience. SSA needs to secure information about this work in order to ascertain whether the applicant was (or is) engaging in SGA. Work after a claimant becomes entitled can cause the cessation of disability benefits. The information obtained from form SSA-820-F4 is needed to determine if a cessation of benefits should occur. The respondents are applicants and claimants for SSI or Social Security benefits.

Type of Request: Extension of an OMB-approved information collection.

Number of Respondents: 100,000.

Frequency of Response: 1.

Average Burden Per Response: 30 minutes.

Estimated Annual Burden: 50,000 hours.

3. Representative Payee Report—20 CFR 404.2035, 20 CFR 404.2065, 20 CFR 416.635, and 20 CFR 416.665—0960-0068. The information on Forms SSA-623 and SSA-6230 is used by SSA to determine whether payments certified to the representative payee have been used for the beneficiary's current maintenance and personal needs, and to determine whether the representative payee continues to be concerned with the beneficiary's welfare. The respondents are representative payees.

Type of Request: Extension of an OMB-approved information collection.

Number of Respondents: 6,000,000.

Frequency of Response: 1.

Average Burden Per Response: 15 minutes.

Estimated Annual Burden: 1,500,000 hours.

4. Modified Benefit Formula Questionnaire—0960-0395. The Social Security Administration uses the information collected by the SSA-150 to determine the correct formula to be used in computing the Social Security benefit for someone who receives a pension from employment not covered by Social Security. The SSA-150 collects the information needed to make all the necessary benefit computations. The respondents are claimants for Social Security benefits who are entitled to both Social Security and a pension not covered by Social Security.

Type of Request: Extension of an OMB-approved information collection.

Number of Respondents: 90,000.

Frequency of Response: 1.

Average Burden Per Response: 8 minutes.

Estimated Average Burden: 12,000 hours.

5. Modified Benefit Formula Questionnaire-Employer—0960-0477. The information collected on Form SSA-58 is used by the SSA to verify the claimant's allegations on Form SSA-150 (OMB No. 0960-0395). SSA must make a determination regarding whether the modified benefit formula is applicable and when to first apply it to a person's benefit. This form will be sent to an employer for pension-related information if the claimant is unable to provide it. The respondents are individuals who are eligible after 1985 for both Social Security benefits and a pension based on work not covered by Social Security.

Type of Request: Extension of an OMB-approved information collection.

Number of Respondents: 30,000.

Frequency of Response: 1.

Average Burden Per Response: 20 minutes.

Estimated Average Burden: 10,000 hours.

6. Report by Former Representative Payee—20 CFR 404.2060 and 20 CFR 404.2065—0960-0112. SSA collects the information on Form SSA-625 when a mental facility is terminating its payee services and a successor payee is to be named. The information is needed to determine the proper disposition of any conserved funds. The respondents are State institutions or agencies which are no longer serving as representative payee(s) for beneficiaries who are incapable of managing benefits.

Type of Request: Extension of an OMB-approved information collection.

Number of Respondents: 8,000.

Frequency of Response: 1.

Average Burden Per Response: 15 minutes.

Estimated Average Burden: 2,000 hours.

7. State Death Match—20 CFR 404.301, 20 CFR 404.310-311, 20 CFR 404.316, 20 CFR 404.330-341, 20 CFR 404.350-352, 20 CFR 404.371, and 20 CFR 416.912—0960-NEW

Background

Section 205(r) of the Social Security Act requires SSA to contract with the States to obtain death certificate information in order to compare it to SSA's payment files. This match ensures the accuracy of our payment files by detecting unreported or inaccurate deaths of beneficiaries.

Entitlement to retirement, disability, wife's, husband's or parent's benefits under the provisions of the Social Security Act terminates when the beneficiary dies. About 2.5 million people die in the United States each year. Approximately 2.0 million are SSA beneficiaries. Therefore, the information is instrumental in maintaining payment integrity.

SSA is seeking clearance of both the current state death match reporting process and the new Web-based Electronic Death Registration (EDR) process described below:

State Death Match—Current Process

The first participants in the death registration process, usually funeral directors, are charged by State law to complete the demographic information on the decedent and obtain necessary physicians' signatures to complete the death registration. Once the death registration information is completed, the first participant sends the information to the State's bureaus of vital statistics (SBVS). The SBVS officially registers the death and is the official keeper of the death record. Each State then furnishes this information to SSA, using current technology including Vital Information Systems Network (VISN), electronic Vital Information Systems Network (eVISN), and ConnectDirect. Under this process SSA must independently verify the State death data before taking a termination action. The respondents are the SBVS.

State Death Match— EDR Online Verification of the Social Security Number in State Death Registration Process

The States are now updating and further automating the death registration processes. This State reengineering effort is widely known as the Electronic Death Registration (EDR) initiative. The EDR system permits electronic transfer of the death certificate. Under EDR the first participant completes a portion and electronically sends the document to the next participant for completion and submission to the BVS.

An additional feature of EDR is the Online Verification System (OVS) developed by the National Association for Public Health Statistics and Information System (NAPHSIS) in conjunction with SSA. The process allows the first participants in the death registration process to enter the decedent's demographic information including the social security number (SSN) into the EDR system. The system will verify the SSN online in real time and creates an electronic death certificate as well as a fact of death report. The States have agreed that the on-line verification of the SSN at the first point of collection in the registration process will satisfy the requirement to independently verify the SSN.

EDR reduces the processing time needed to register deaths and greatly improves the business practices of the various participants in death registration process. EDR will result in the State's ability to send SSA the report with a verified SSN within 5 days of the date of death and within 24 hours of receipt in the State repository. SSA is using a phased-in approach to EDR. When fully implemented, SSA will save significant program dollars and work years annually. The respondents are the SBVS.

Type of Request: New information collection.

Estimated Annual Cost for all respondents:

Collection format | Number of respondents | Frequency of responses | Average cost per record request | Estimated annual cost burden
State death match—current registration process | 52 | 50,000 per state | .67 | $1,742,000
State death match—electronic death registration (EDR) | 3 | 50,000 per state | $2.48 | $372,000
** Please note that both of these data matching processes are entirely electronic and there is no hourly burden for the respondent to provide this information.

II. The information collection listed below has been submitted to OMB for clearance.

Your comments on the information collection would be most useful if received by OMB and SSA within 30 days from the date of this publication. You can obtain a copy of the OMB clearance package by calling the SSA Reports Clearance Officer at 410-965-0454, or by writing to the address listed above.

Request for Waiver of Special Veterans Benefits (SVB) Overpayment Recovery or Change in Repayment Rate—0960—NEW

Background

Section 251 of the Foster Care Independence Act of 1999, Pub. L. 106-169, added Title VIII (Special Benefits for Certain World War II veterans) to the Social Security Act. Title VIII allows for the payments of monthly benefits to qualified World War II veterans who reside outside the United States. When an overpayment in SVB occurs, the beneficiary can request a waiver of recovery of the overpayment or a change in the overpayment rate.

The Information Collection

Form SSA-2032-BK will be used by SSA to obtain the information necessary to determine whether the provisions of the Act regarding waiver of recovery of the overpayment are met. The information on the form is needed to determine a repayment rate if repayment cannot be waived. The information will be collected by personnel in SSA field offices, U.S. Embassies or consulates, or the Veterans Affairs Regional Office in the Philippines. Respondents to the SSA-2032 are beneficiaries who have overpayments on their Title VIII record and wish to file a claim for waiver of recovery or change in repayment rate.

Type of Request: New Information Collection.

Number of Respondents: 39.

Frequency of Response: 1.

Average Burden Per Response: 120 minutes.

Estimated Annual Burden: 78 hours.

Dated: September 28, 2004.
Elizabeth A. Davidson,
Reports Clearance Officer, Social Security Administration.

[FR Doc. 04-22219 Filed 10-1-04; 8:45 am]

BILLING CODE 4191-02-P